COMMODITY FUTURES TRADING COMMISSION

Renewal of the Market Risk Advisory Committee

AGENCY: Commodity Futures Trading Commission.

ACTION: Notice of renewal.

SUMMARY: The Commodity Futures Trading Commission (Commission) is publishing this notice to announce the renewal of the Market Risk Advisory Committee (MRAC). The Commission has determined that the renewal of the MRAC is necessary and in the public's interest, and the Commission has consulted with the General Services Administration's Committee Management Secretariat regarding the MRAC's renewal.

FOR FURTHER INFORMATION CONTACT: Alicia Lewis, MRAC Designated Federal Officer, at 202-418-5862 or alewis@cftc.gov.

SUPPLEMENTARY INFORMATION: In support of the Commission's mission of promoting the integrity, resilience, and vibrancy of the U.S. derivatives markets through sound regulation as well as the monitoring and management of systemic risk, the MRAC's objectives and scope of activities are to conduct public meetings, advise, and submit reports and recommendations to the Commission on: (1) Systemic issues that impact the stability of the derivatives markets and other related financial markets; and (2) the impact and implications of the evolving market structure of the derivatives markets and other related financial markets. The MRAC will operate for two years from the date of renewal unless the Commission directs that the MRAC terminate on an earlier date. A copy of the renewal charter will be posted on the Commission's website at www.cftc.gov.

Dated: April 18, 2022.
Christopher Kirkpatrick,
Secretary of the Commission.

[FR Doc. 2022-08540 Filed 4-20-22; 8:45 am]

BILLING CODE 6351-01-P